DEPARTMENT OF THE INTERIOR

National Park Service

Fire Management Plan, Environmental Impact Statement, Saguaro National Park, Arizona

AGENCY: National Park Service, Interior.

ACTION: Notice of intent to prepare an environmental impact statement for the Fire Management Plan for Saguaro National Park.

SUMMARY: Under the provisions of the National Environmental Policy Act of 1969, the National Park Service is preparing an environmental impact statement for the Fire Management Plan for Saguaro National Park. This effort will result in a new wildland fire management plan that meets current policies, provides a framework for making fire-related decisions, and serves as an operational manual. Development of a new fire plan is compatible with the broader goals and objectives derived from the park purposes that governs resources management. Alternatives to be considered include no-action, the Fire Management Unit Based Plan Natural Ignition, and Landscape Plan. The no-action alternative maintains the current 1991 fire management plan strategy of suppression, prescribed natural fire, and prescribed burning. The Fire Management Unit Based Plan Natural Ignition alternative would allow fires to burn in certain areas of the park under conditions which meet resource objectives. Prescribed fires would be carried out by park personnel to reduce hazardous fuel accumulations around developments and near park boundaries. The Landscape Plan calls for the National Park Service and adjacent U.S. Forest Service to jointly formulate a fire management plan that covers the entire landscape of the Rincon Mountains or a more naturally bounded portion of the range.

Major issues include environmental effects of the FMP that are potential problems and include depression of plant and wildlife populations, disturbance of unique sites, increased erosion or debris flow, increased air pollution, hazards to life and property, visitor inconvenience, and damage to cultural resources.

A scoping brochure has been prepared describing the issues identified to date. Copies of the brochures may be obtained from Sarah Craighead, Superintendent, Saguaro National Park, 3693 S. Old Spanish Trail, Tucson, AZ 95730, (520) 733-5153.

DATES: The Park Service will accept comments from the public for 30 days from the date this notice is published in the Federal Register.

ADDRESSES: Information will be available for public review and comment in the Fire Management Office, Saguaro National Park, 3693 S. Old Spanish Trail, Tucson, AZ 85730, (520) 733-5130.

FOR FURTHER INFORMATION CONTACT: Chuck Scott, Fire Management Officer, Saguaro National Park, (520) 733-5130.

SUPPLEMENTARY INFORMATION: If you wish to comment on the scoping brochure, or any other issues associated with the plan, you may submit your comments by any one of the several methods. You may mail comments to Chuck Scott, Fire Management Officer, Saguaro National Park, 3693 S. Old Spanish Trail, Tucson, AZ 85730. You may also comment via the Internet to Chuck_Scott@nps.gov. Please submit Internet comments as an ASCII file avoiding the use of special characters and any form of encryption. Please also include “Attn: Fire Management Plan” and your name and return address in your Internet message. If you do not receive a confirmation from the system that we have received your Internet message, contact us directly at the Fire Management Office (520) 733-5130. Finally, you may hand-deliver comments to the above address. Our practice is to make comments, including names and home addresses of respondents, available for public review during regular business hours. Individual respondents may request that we withheld their home address from the record, which we will honor to the extent allowable by law. There also may be circumstances in which we would withhold from the record a respondent's identity, as allowable by law. If you wish us to withhold your name and/or address, you must state this preeminently at the beginning of your comments. We will make all submissions from organizations or businesses, and from individuals identifying themselves as representatives or officials of organizations or businesses, available for public inspection in their entirety.

Karen P. Wade,
Director, Intermountain Region, National Park Service.

[FR Doc. 02-24060 Filed 9-20-02; 8:45 am]

BILLING CODE 4310-70-M